DEPARTMENT OF COMMERCE

National Oceanic and Atmospheric Administration

[I.D. 071800D]

Pacific Fishery Management Council; Public Meeting

AGENCY: National Marine Fisheries Service (NMFS), National Oceanic and Atmospheric Administration (NOAA), Commerce.

ACTION: Notice of public meetings.

SUMMARY: The Pacific Fishery Management Council's (Council) Ad-Hoc Groundfish Strategic Plan Development Committee (Committee) will hold a work session which is open to the public.

DATES: The work session will be held Thursday, August 24 at 10 a.m. and may go into the evening until business for the day is completed. The work session will reconvene at 8 a.m. on Friday, August 25 and continue throughout the day until business for the day is completed.

ADDRESSES: The work session will be held at the Pacific States Marine Fisheries Commission, Large Conference Room, 45 SE 82nd Drive, Suite 100, Gladstone, OR 97027; (503) 650-5400.

Council address: Pacific Fishery Management Council, 2130 SW Fifth Avenue, Suite 224, Portland, OR 97201; (503) 326-6352.

FOR FURTHER INFORMATION CONTACT: Mr. Jim Glock, (503) 326-6352.

SUPPLEMENTARY INFORMATION: The purpose of the working session is to review public comments received at a series of public hearings conducted by the states of Washington, Oregon, and California and develop recommendations for presentation to the Council at its September 11-15 meeting.

Although non-emergency issues not contained in this agenda may come before this Council for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Ms. Carolyn Porter at (503) 326-6352 at least 5 days prior to the meeting date.

Dated: July 18, 2000.
Bruce C. Morehead,
Acting Director, Office of Sustainable Fisheries, National Marine Fisheries Service.

[FR Doc. 00-18649 Filed 7-21-00; 8:45 am]

BILLING CODE 3510-22-F